DEPARTMENT OF STATE

[Public Notice 11947]

Notice of Receipt of Request From the Government of the Republic of North Macedonia Under Article 9 of the 1970 UNESCO Convention on the Means of Prohibiting and Preventing the Illicit Import, Export and Transfer of Ownership of Cultural Property

SUMMARY: Notice of receipt of request from North Macedonia for cultural property protection.

FOR FURTHER INFORMATION CONTACT: Chelsea Freeland, Cultural Heritage Center, Bureau of Educational and Cultural Affairs: (202) 714-8403; culprop@state.gov; include “North Macedonia” in the subject line.

SUPPLEMENTARY INFORMATION: The Government of the Republic of North Macedonia made a request to the Government of the United States on July 29, 2022, under Article 9 of the 1970 UNESCO Convention on the Means of Prohibiting and Preventing the Illicit Import, Export and Transfer of Ownership of Cultural Property. North Macedonia's request seeks U.S. import restrictions on archaeological and ethnological materials representing North Macedonia's cultural patrimony. The Cultural Heritage Center website provides instructions for public comment and additional information on the request, including categories of material that may be included in import restrictions: https://eca.state.gov/highlight/cultural-property-advisory-committee-meeting-January-30-February-02-2023. This notice is published pursuant to authority vested in the Assistant Secretary of State for Educational and Cultural Affairs and pursuant to 19 U.S.C. 2602(f)(1).

Allison Davis,
Executive Director, Cultural Property Advisory Committee, Bureau of Educational and Cultural Affairs,Department of State.

[FR Doc. 2022-27737 Filed 12-20-22; 8:45 am]

BILLING CODE 4710-05-P